FEDERAL COMMUNICATIONS COMMISSION

47 CFR Part 73

[DA 04-2859; MB Docket No. 04-348, RM-10718; MB Docket No. 04-349, RM-10827; MB Docket No. 04-350, RM-10815; MB Docket No. 04-351, RM-10828]

Radio Broadcasting Services; Cross Plains, TX; Fernley, NV; Oroville, CA and Pittsburg, OK

AGENCY: Federal Communications Commission.

ACTION: Proposed rule.

SUMMARY: This document proposes four new allotments in Cross Plains, Texas, Fernley, Nevada, Oroville, California and Pittsburg, Oklahoma. The Audio Division requests comment on a petition filed by Charles Crawford proposing the allotment of Channel 294A at Cross Plains, Texas, as the community's first local aural transmission service. Channel 294A can be allotted to Cross Plains in compliance with the Commission's minimum distance separation requirements with a site restriction of 14 kilometers (8.7 miles) west to avoid a short-spacing to the license sites of FM Stations KKHR, Channel 292C2, Abilene, Texas and KKDL, Channel 294C, Muenster, Texas. The reference coordinates for Channel 294A at Cross Plains are 32-06-48 NL and 99-18-45 WL. See Supplementary Information, infra.

DATES: Comments must be filed on or before October 25, 2004, and reply comments on or before November 9, 2004.

ADDRESSES: Federal Communications Commission, 445 Twelfth Street, SW., Washington, DC 20554. In addition to filing comments with the FCC, interested parties should serve the petitioner, his counsel, or consultant, as follows: Charles Crawford, 4553 Bordeaux Avenue, Dallas, TX 75205 and Linda A. Davidson, 2134 Oak Street, Unit C, Santa Monica, California 90405.

FOR FURTHER INFORMATION CONTACT: Rolanda F. Smith, Media Bureau, (202) 418-2180.

SUPPLEMENTARY INFORMATION: This is a synopsis of the Commission's Notice of Proposed Rule Making, MB Docket Nos. 04-348, 04-349, 04-350, 04-351, adopted September, 2004 and released September, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or www.BCPIWEB.com.

The Audio Division requests comments on a petition filed by Linda A. Davidson proposing the allotment of Channel 231C3 at Fernley, Nevada, as the community's first local aural transmission service. Channel 231C3 can be allotted to Fernley in compliance with the Commission's minimum distance separation requirements with a site restriction of 9 kilometers (5.6 miles) east to avoid a short-spacing to the license site of FM Station KHXR, Channel 233C2, Sun Valley, Nevada. The reference coordinates for Channel 231C3 at Fernley are 39-37-00 North Latitude and 119-08-51 West Longitude.

The Audio Division requests comments on a petition filed by Linda A. Davidson proposing the allotment of Channel 272A at Oroville, California, as the community's second local aural transmission service. Channel 272A can be allotted to Oroville in compliance with the Commission's minimum distance separation requirements with a site restriction of 9.4 kilometers (5.8 miles) north to avoid short-spacing to the license sites of FM Stations KCEZ, Channel 271B1, Los Molin, California and KSFM, Channel 273B, Woodland, California. The reference coordinates for Channel 272A at Oroville are 39-35-51 North Latitude and 121-34-11 West Longitude.

The Audio Division requests comment on a petition filed by Charles Crawford proposing the allotment of Channel 232A at Pittsburg, Oklahoma, as the community's first local aural transmission service. Channel 232A can be allotted to Pittsburg in compliance with the Commission's minimum distance separation requirements with a site restriction of 13.5 kilometers (8.4 miles) east to avoid a short-spacing to the license site of FM Station KTSO, Channel 231C1, Glenpool, Oklahoma. The reference coordinates for Channel 232A at Pittsburg are 34-41-15 North Latitude and 95-42-19 West Longitude. To accommodate the Pittsburg allotment, Petitioner proposes the relocation of the reference coordinates for vacant Channel 232A at Cove, Arkansas. The proposed reference coordinates are 34-21-00 NL and 94-30-00 WL. This proposed site is 12.5 kilometers (7.8 miles) southwest of Cove.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under California, is amended by adding Channel 272A at Oroville.

3. Section 73.202(b), the Table of FM Allotments under Nevada, is amended by adding Fernley, Channel 231C3.

4. Section 73.202(b), the Table of FM Allotments under Oklahoma, is amended by adding Pittsburg, Channel 232A.

5. Section 73.202(b), the Table of FM Allotments under Texas, is amended by adding Cross Plains, Channel 294A.

Federal Communications Commission.
John A. Karousos,
Assistant Chief, Audio Division, Media Bureau.

[FR Doc. 04-20787 Filed 9-14-04; 8:45 am]

BILLING CODE 6712-01-P